DEPARTMENT OF VETERANS AFFAIRS

[OMB Control No. 2900-0786]

Agency Information Collection Activity: Department of Veterans (VA) Vocational Rehabilitation and Employment (VR&E) Longitudinal Study Survey Questionnaire; Withdrawn

AGENCY: Veterans Benefits Administration, Department of Veterans Affairs.

ACTION: Notice; withdrawal.

SUMMARY: On Tuesday, November 28, 2023, the Veterans Benefits Administration (VA), published a notice in the Federal Register announcing an opportunity for public comment on the proposed collection “Department of Veterans Affairs (VA) Vocational Rehabilitation and Employment (VR&E) Longitudinal Study Survey Questionnaire”. This notice was published in error; therefore, this document corrects that error by withdrawing this FR notice, document number 2023-26141.

DATES: As of November 28, 2023, the FR notice published at 88 FR 227 on Tuesday, November 28, 2023, is withdrawn.

FOR FURTHER INFORMATION CONTACT: Maribel Aponte, Office of Enterprise and Integration, Data Governance Analytics (008), 810 Vermont Ave. NW, Washington, DC 20006, (202) 266-4688 or email maribel.aponte@va.gov.

SUPPLEMENTARY INFORMATION: FR Doc. 2023-26141, published on Tuesday, November 28, 2023, is withdrawn by this notice.

By direction of the Secretary.
Maribel Aponte,
VA PRA Clearance Officer, Office of Enterprise and Integration/Data Governance Analytics, Department of Veterans Affairs.

[FR Doc. 2023-26506 Filed 12-1-23; 8:45 am]

BILLING CODE 8320-01-P